ENVIRONMENTAL PROTECTION AGENCY

40 CFR Part 271

[EPA-R04-RCRA-2019-0425; FRL-10001-05-Region 4]

North Carolina: Final Authorization of State Hazardous Waste Management Program Revisions

AGENCY: Environmental Protection Agency (EPA).

ACTION: Final authorization.

SUMMARY: The Environmental Protection Agency (EPA) is granting North Carolina final authorization for changes to its hazardous waste program under the Resource Conservation and Recovery Act (RCRA). The Agency published a proposed rule on August 23, 2019, and provided for public comment. One comment was received in support of the EPA's proposed authorization. The comment is addressed in this final authorization. No further opportunity for comment will be provided.

DATES: This final authorization is effective October 10, 2019.

ADDRESSES: The EPA has established a docket for this action under Docket ID No. EPA-R04-RCRA-2019-0425. All documents in the docket are listed on the http://www.regulations.gov website. Certain other material, such as copyrighted material, is not placed on the internet and will be publicly available only in hard copy form. Publicly available docket materials are available electronically through http://www.regulations.gov.

FOR FURTHER INFORMATION CONTACT: Robin Billings, RCRA Programs and Cleanup Branch, Land, Chemicals and Redevelopment Division, U.S. Environmental Protection Agency, Region 4, Atlanta Federal Center, 61 Forsyth Street SW, Atlanta, Georgia 30303-8960; telephone number: (404) 562-8515; fax number: (404) 562-9964; email address: billings.robin@epa.gov.

SUPPLEMENTARY INFORMATION:

A. What changes to North Carolina's hazardous waste program is EPA authorizing with this action?

On June 4, 2019, North Carolina formally requested authorization of changes to its hazardous waste management program in accordance with 40 CFR 271.21.¹ EPA now makes a final decision that North Carolina's hazardous waste program revisions that are being authorized are equivalent to, consistent with, and no less stringent than the Federal program, and therefore satisfy all of the requirements necessary to qualify for final authorization. For a list of State rules being authorized with this final authorization, please see the proposed rule published in the August 23, 2019 Federal Register at 84 FR 44266.

¹ North Carolina's complete program revision application is comprised of its January 4, 2019 submittal, as amended by its June 4, 2019 submittal.

B. What comments were received on North Carolina's proposed authorization and how is EPA responding to these comments?

EPA received one comment from a private citizen (“Commenter”) on its August 23, 2019 proposed authorization of North Carolina's hazardous waste program revisions. The comment is provided in the docket for this final action. See Docket ID No. EPA-R04-RCRA-2019-0425 at www.regulations.gov. A summary of the comment and EPA's response is provided below.

Comment: The Commenter supports North Carolina's program revisions and contends that the proposed State requirements should be authorized by the EPA so long as they are “up to code” with Federal requirements. The Commenter states that all of the State's proposed amendments should be authorized as long as they are “equally stringent or more stringent than the Federal standards.”

Response: As discussed in EPA's August 23, 2019 proposed rule (84 FR 44266), the amendments for which the State is seeking authorization are already effective and enforceable as a matter of State law. The effect of EPA's authorization decision is to make these changes part of the federally authorized State hazardous waste program and therefore federally enforceable. North Carolina will continue to have primary enforcement authority and responsibility for its State hazardous waste program within the State of North Carolina. EPA has reviewed all of North Carolina's changes and determined that they are equivalent to, consistent with, and no less stringent than the Federal program. As discussed in Section G of the proposed rule, EPA has also concluded that some provisions of North Carolina's amended regulation are more stringent than the Federal program. These more stringent requirements will also become part of the federally enforceable RCRA program in North Carolina. With this final authorization, EPA continues to support and is proceeding with Federal authorization of North Carolina's program revisions.

C. What is codification and is EPA codifying North Carolina's hazardous waste program as authorized in this rule?

Codification is the process of placing citations and references to the State's statutes and regulations that comprise the State's authorized hazardous waste program into the Code of Federal Regulations. EPA does this by adding those citations and references to the authorized State rules in 40 CFR part 272. EPA is not codifying the authorization of North Carolina's revisions at this time. However, EPA reserves the ability to amend 40 CFR part 272, subpart II, for the authorization of North Carolina's program changes at a later date.

D. Statutory and Executive Order Reviews

This final authorization revises North Carolina's authorized hazardous waste management program pursuant to Section 3006 of RCRA and imposes no requirements other than those currently imposed by State law. For further information on how this authorization complies with applicable executive orders and statutory provisions, please see the proposed rule published in the August 23, 2019 Federal Register at 84 FR 44266. The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective October 10, 2019.

List of Subjects in 40 CFR Part 271

Environmental protection, Administrative practice and procedure, Confidential business information, Hazardous waste, Hazardous waste transportation, Intergovernmental relations, Penalties, Reporting and recordkeeping requirements.

Authority: This action is issued under the authority of Sections 2002(a), 3006, and 7004(b) of the Solid Waste Disposal Act, as amended, 42 U.S.C. 6912(a), 6926, and 6974(b).

Dated: September 30, 2019.
Mary S. Walker,
Regional Administrator, Region 4.

[FR Doc. 2019-22207 Filed 10-9-19; 8:45 am]

BILLING CODE 6560-50-P